DEPARTMENT OF AGRICULTURE

Forest Service

Bend/Ft. Rock Ranger District; Deschutes National Forest; Deschutes County, OR; Ogden Landscape Vegetation Management Project EIS

AGENCY: Forest Service, USDA.

ACTION: Notice of intent to prepare an environmental impact statement.

SUMMARY: The USDA, Forest Service, will prepare an environmental impact statement (EIS) on a proposed action to promote development of large tree structural conditions and to improve forest health and fuel conditions within the 26,500-acre Ogden Landscape planning area. The planning area is located to the west of and adjacent to the Newberry National Volcanic Monument and to private lands to the east of State Highway 97, south of Forest road 9735 and north of Forest road 22. The planning area is all within public lands managed by the Deschutes National Forest. An analysis has been initiated that takes a landscape approach to managing the vegetation to meet objectives for resilient forest, fuels and fire behavior, and wildlife habitat. Methods that would be used to reduce tree density and hazardous fuels are: Non-commercial and commercial thinning, mechanical shrub treatment, and prescribed burning. The alternatives will include the proposed action, no action, and, if necessary, additional alternatives that respond to issues generated through the scoping process. The agency will give notice of the full environmental analysis and decision-making process so interested and affected public may participate and contribute to the final decision.

DATES: Comments concerning the scope of the analysis must be received by 30 days following the date that this notice appears in the Federal Register.

ADDRESSES: Send written comments to Shane Jeffries, District Ranger, Bend-Fort Rock Ranger District, Red Oaks Square, 1230 NE. Third Street Suite A-262, Bend, Oregon 97701.

FOR FURTHER INFORMATION CONTACT: Beth Peer, Environmental Coordinator, Bend-Fort Rock Ranger District, Red Oaks Square, 1230 NE. Third Street Suite A-262, Bend, Oregon 97701, phone (541) 383-4769.

Responsible Official: The responsible official is John Allen, Forest Supervisor, Deschutes National Forest, 1001 SW. Emkay Dr., Bend, OR 97701.

SUPPLEMENTARY INFORMATION: Background. This Central Oregon landscape is a priority for restoration. There are many high-value areas within and adjacent to the project area: Paulina Creek which bisects the planning area from east to west is eligible for the National Wild and Scenic Rivers System; popular sites such as McKay, Ogden, and Prairie Campgrounds and the Peter Skeen Ogden National Scenic Trail provide diverse opportunities for recreation; and the primary access into and out of Newberry Crater and the Newberry National Monument passes through the project area. The project area also provides habitat for goshawk and other Management Indicator Species. High fuel loads and the presence of ladder of fuels puts these areas at risk to a large scale wildfire.

The amount of late and old structure ponderosa pine is far below the historic range of variability. A majority of the planning area is second-growth ponderosa pine, which has grown in following historic logging in the 1920s to 1940s. Portions of the area have been thinned dating from the 1960s to as recently as 2009. In thinned and unthinned areas, tree growth is increasing stand density relative to stocking capacity of the site. Densities are affecting tree diameter growth and creating conditions favorable for mountain pine beetle attack. In some cases, lodgepole has been established and is adversely affecting the growth of ponderosa pine. There are also areas of pure lodgepole pine that are either mature stands, or have been regenerated in the recent past. Mixed conifer stands are a smaller component of the landscape and are primarily ponderosa pine with a mix of lodgepole pine and white fir.

Purpose and Need. The general purpose of entering the project area is to move the area towards a more resilient landscape and provide a diversity of habitats closer to what historically occurred. There is a need to reduce forest vegetation density and fuels to increase resilience to insects, disease, and stand-replacing fire, and to increase the proportion of LOS ponderosa pine. Currently, values associated with the landscape are susceptible to a wide-scale disturbance. The Deschutes National Forest Land and Resource Management Plan supports proactive maintenance and enhancing the vigor of the forest in preventing a stand replacement event rather than waiting.

There is a need to contribute to the local and regional economies by providing timber and other wood fiber products and associated jobs. The Deschutes National Forest Land and Resource Management Plan supports management of timber resources and recognizes the value in a way that is consistent with other resource objectives, environmental constraints, and economic efficiency.

Proposed Action. The Forest Service proposes to implement activities across approximately 14,600 acres within the Ogden Landscape. Treatments (commercial and non-commercial thinning) will provide a diversity of habitat structures that are more in line with historical conditions. Thinning will maintain large trees that are present and encourage the development of late and old structure characteristics in stands where not currently present. Shrub mowing will reduce surface and ladder fuels and allow fire to be used as an ecological restoration tool. Prescribed fire will be applied in the fire-dependent ecosystems to reduce fuels, maintain habitat, and allow fire to perform its natural ecological function. Treatments are designed to address the objectives for each stand type and are strategically located across the area to break up fuel continuity.

Issues. Preliminary issues include the potential effect of the proposed action on cultural resources, developed and dispersed recreation, noxious weeds, air quality, and wildlife habitat.

Comment. Public comments regarding this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision in accordance with 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by October 2010. The EPA will publish a Notice of Availability (NOA) of the draft EIS in the Federal Register. The final EIS is scheduled to be available February 2011.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where and whether or not to apply natural fuels treatments, thin stands, and reforest group cuts. The responsible official will also decide how to mitigate impacts of these actions and will determine when and how monitoring of effects will take place.

The Ogden Landscape Vegetation Management decision and the reasons for the decision will be documented in the record of decision, which will be subject to Forest Service Appeal Regulations (35 CFR Part 215).

Dated: December 18, 2009.
John Allen,
Forest Supervisor, Deschutes National Forest.

[FR Doc. E9-30744 Filed 12-30-09; 8:45 am]

BILLING CODE 3410-11-M